FEDERAL RESERVE SYSTEM

Formations of, Acquisitions by, and Mergers of Bank Holding Companies; Correction

This notice corrects a notice (FR Doc. E9-18448 published on page 38428 of the issue for Monday, August 3, 2009, 2009.

Under the Federal Reserve Bank of New York heading, the entry for Morgan Stanley, New York, New York, is revised to read as follows:

A. Federal Reserve Bank of New York (Ivan Hurwitz, Bank Applications Officer) 33 Liberty Street, New York, New York 10045-0001:

1. Morgan Stanley, New York, New York; to retain 9.2 percent, and to acquire up to 9.9 percent, of the voting shares of Community Bankers Trust Corporation, Glen Allen, Virginia, and thereby indirectly retain and acquire voting shares of Bank of Essex, Essex, Virginia.

Comments on this application must be received by August 28, 2009.

Board of Governors of the Federal Reserve System, August 3, 2009.
Robert deV. Frierson,
Deputy Secretary of the Board.

[FR Doc. E9-18824 Filed 8-5-09; 8:45 am]

BILLING CODE 6210-01-S